DEPARTMENT OF TRANSPORTATION

Federal Aviation Administration

[Docket No. 2120-0559]

Agency Information Collection Activities: Requests for Comments; Clearance of Renewed Approval of Information Collection: SF-272, Federal Cash Transaction Report; 9550-5, Final Project Report; SF-424 Application for Federal Assistance; SF-3881, ACH Vendor/Miscellaneous Payment Enrollment Form; SF-269, Financial Status Report; SF-270, Request for Advance or Reimbursement

AGENCY: Federal Aviation Administration (FAA), DOT.

ACTION: Notice and request for comments.

SUMMARY: In accordance with the Paperwork Reduction Act of 1995, the Federal Aviation Administration (FAA) invites public comments about its intention to request the Office of Management and Budget (OMB) approval to renew an information collection. The information to be collected will be used to and/or is necessary for the purpose of grant administration and review in accordance with applicable OMB circulars A-110, and A-21.

DATES: Written comments should be submitted by January 12, 2020.

ADDRESSES: Please send written comments:

By Electronic Docket: www.regulations.gov (Enter docket number 2120-0559 into search field).

By mail: Trina M. Bellamy, Grants Officer, William J. Hughes Technical Center, Building 300, Acquisition & Grants Division, Atlantic City International Airport, Atlantic City, NJ 08405.

FOR FURTHER INFORMATION CONTACT: Subject Matter Expert (SME) Trina M. Bellamy by email at Trina.Bellamy@faa.gov; phone: 609-485-7483.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0559.

Title: Same title as above.

Form Numbers: SF-272, 9550-5, SF-424, SF-3881, SF-269, SF-270.

Type of Review: Renewal.

Background: The FAA Aviation Research Grant Program establishes uniform policies and procedures for the award and administration of research grants and cooperative agreements to colleges, universities, not for profit research institutions for research that is of potential benefit to the long-term growth of civil aviation and Commercial Space Transportation. This program implements OMB Circular A-110, Public Law 101-508, Section 9205 and 9208 and Public Law 101-604, Section 107(d). The information is collected through a solicitation that has been published by the FAA. Prospective grantees respond to the solicitation using a proposal format outlined in the solicitation in adherence to applicable FAA directives, statutes, and OMB circulars.

Respondents: Colleges, Universities, Non-profit research institutions.

Frequency:

Estimated Average Burden per Response: 90 Minutes.

Estimated Total Annual Burden: 90 Minutes per respondent.

Issued in Atlantic City, NJ, on November 13, 2019.
Trina M. Bellamy,
Grants Officer, Acquisition & Grants Division/AAQ-600.

[FR Doc. 2019-24920 Filed 11-15-19; 8:45 am]

BILLING CODE 4910-13-P